DEPARTMENT OF HEALTH AND HUMAN SERVICES

Administration for Children and Families

Administration on Children, Youth and Families

AGENCY: Administration on Children, Youth and Families, Administration for Children and Families.

ACTION: Single-Source Non-Competitive Continuation Award.

CFDA Number: 93.557.

Legislative Authority: Public Law (Pub. L.) 108-96, Runaway, Homeless, and Missing Children Protection Act of 2003.

Amount of Award: $100,000 for one year.

Project Period: 09/30/2006—09/29/2007.

This notice announces the award of a single-source non-competitive continuation grant to the Fairbanks Counseling and Adoption (FCA) to complete the third and final year of a grant awarded originally to the Fairbanks Native Association (FNA). FCA was awarded a one-year non-competitive successor grant to provide street outreach services when this grant was relinquished by Fairbanks Native Association (FNA) in Fiscal Year 2005.

FNA, a nonprofit agency in Fairbanks, AK, was awarded a Street Outreach grant in Fiscal Year 2004. Since FNA was no longer able to effectively administer the grant or accomplish the project goals, the organization relinquished the grant effective July 1, 2005. On September 14, 2005, FCA was awarded a single-source successor grant to replace FNA as grantee. FCA is a leader in assessing the needs and benefits of positive youth development in Fairbanks, Alaska. There was very little disruption of activities during the transfer of the grant. Continuation of these activities in central Alaska by an entity that already supports homeless youth is the best option for a successful completion of the project. The need for these street outreach services still exists as it did when the grant was originally awarded in the year 2004. There will be no significant change in project activities.

For Further Information Contact: Curtis Porter, Director, Youth Development Division, Family and Youth Services Bureau, Administration for Children, Youth and Families, Administration for Children and Families, Portals Building, Suite 800, 1250 Maryland Avenue, SW., Washington, DC 20024. Telephone: 202-205-8102.

Dated: September 27, 2006.
Joan E. Ohl,
Commissioner, Administration on Youth and Families.

[FR Doc. E6-16360 Filed 10-3-06; 8:45 am]

BILLING CODE 4184-01-P